DEPARTMENT OF TRANSPORTATION

National Highway Traffic Safety Administration

[U.S. DOT Docket Number NHTSA-2001-10343]

Reports, Forms, and Record Keeping Requirements

AGENCY: National Highway Traffic Safety Administration (NHTSA), Department of Transportation.

ACTION: Request for public comment on proposed collection of information.

SUMMARY: Before a Federal agency can collect certain information from the public, it must receive approval from the Office of Management and Budget (OMB). Under procedures established by the Paperwork Reduction Act of 1995, before seeking OMB approval, Federal agencies must solicit public comment on proposed collections of information, including extensions and reinstatement of previously approved collections.

This document describes one collection of information for which NHTSA intends to seek OMB approval.

DATES: Comments must be received on or before October 15, 2001.

ADDRESSES: Comments must refer to the docket notice numbers cited at the beginning of this notice and be submitted to Docket Management, Room PL-401, 400 Seventh Street, SW., Washington, DC 20590. Please identify the proposed collection of information for which a comment is provided, by referencing its OMB clearance Number. It is requested, but not required, that 2 copies of the comment be provided. The Docket Section is open on weekdays from 10 a.m. to 5 p.m.

FOR FURTHER INFORMATION CONTACT: Complete copies of each request for collection of information may be obtained at no charge from Walter Culbreath, NHTSA 400 Seventh Street, SW., Room 5208, NAD-40,Washington, DC 20590. Mr. Culbreath's telephone number is (202) 366-1566. Please identify the relevant collection of information by referring to its OMB Control Number.

SUPPLEMENTARY INFORMATION: Under the Paperwork Reduction Act of 1995, before an agency submits a proposed collection of information to OMB for approval, it must first publish a document in the Federal Register providing a 60-day comment period and otherwise consult with members of the public and affected agencies concerning each proposed collection of information. The OMB has promulgated regulations describing what must be included in such a document. Under OMB's regulation (at 5 CFR 1320.8(d), an agency must ask for public comment on the following:

(i) Whether the proposed collection of information is necessary for the proper performance of the functions of the agency, including whether the information will have practical utility;

(ii) The accuracy of the agency's estimate of the burden of the proposed collection of information, including the validity of the methodology and assumptions used;

(iii) How to enhance the quality, utility, and clarity of the information to be collected;

(iv) How to minimize the burden of the collection of information on those who are to respond, including the use of appropriate automated, electronic, mechanical, or other technological collection techniques or other forms of information technology, e.g. permitting electronic submission of responses.

In compliance with these requirements, NHTSA asks for public comments on the following proposed collections of information:

(1) Title: 49 CFR Part 512, Confidential Business Information.

OMB Control Number: 2127-0025.

Affected Public: Business or other-for-profit, individuals or households.

Abstract: NHTSA's statutory authority at 49 CFR chapter 301 prohibits, with certain exceptions, the agency from making public confidential information which it obtains. On the other hand, the Administrative Procedure Act requires all agencies to make public all non-confidential information upon request, (5 U.S.C. 552) and all agency rules to be supported by substantial evidence in the public record (5 U.S.C. 706). It is therefore very important for the agency to promptly determine whether or not information it obtains should be accorded confidential treatment.

NHTSA therefore promulgated 49 CFR part 512 Confidential Business Information to establish the procedure by which NHTSA will consider claims that information submitted to the agency, or which it otherwise obtains, is confidential business information. Because of part 512, both NHTSA and the submitters of information for which confidential treatment is requested are now able to ensure that confidentiality requests are properly substantiated and expeditiously processed.

Estimated Annual Burden: 600 hours.

Number of Respondents: 150

(2) Title: 49 CFR Part 557, Petitions for hearings on Notifications and Remedy on Defects

OMB Control Number: 2127-0039.

Affected Public: Business or other-for-profit, individuals or households.

Abstract: NHTSA's statutory authority at 49 U.S.C. 30118(e) and 30120(e) specifies that “on petition of any interested person,” NHTSA may hold hearings to determine whether a manufacturer of motor vehicles or motor vehicle equipment has met its obligation to notify owners, purchasers, and dealers of vehicles or equipment of a defect or noncompliance and to remedy a defect or noncompliance for Federal Motor Vehicle Safety Standards for some of the products the manufacturer produces.

To address these areas, NHTSA has promulgated 49 CFR part 557, Petitions for Hearings on Notification and Remedy of Defects, which adopts a uniform regulation that establishes procedures to provide for submission and disposition of petitions, and to hold hearings on the issue of whether the manufacturer has met its obligation to notify owners, distributors, and dealers of safety related defects or noncompliance and to remedy the problems by repair, repurchase, or replacement.

Estimated Annual Burden: 21 hours.

Number of Respondents: 21.

(3) Title: 49 CFR Part 576, Record Retention.

OMB Control Number: 2127-0042.

Affected Public: Business or other for-profit.

Abstract: Under 49 U.S.C. 30166(e), NHTSA “reasonably may require a manufacturer of a motor vehicle or motor vehicle equipment to keep records, and a manufacturer, distributor, or dealer to make reports, to enable (NHTSA) to decide whether the manufacturer, distributor or dealer has complied or is complying with this chapter or a regulation prescribed under this chapter.”

49 U.S.C. 30118(c) requires manufacturers to notify NHTSA and owners, purchasers, and dealers if the manufacturer (1) “learns” that any vehicle or equipment manufactured by it contains a defect and decides in good faith that the defect relates to motor vehicle safety, or (2) “decides in good faith” that the vehicle or equipment does not comply with an applicable Federal motor vehicle safety standard. The only way for the agency to decide if and when a manufacturer “learned” of a safety-related defect or “decided in good faith” that some products did not comply with an applicable Federal motor vehicle safety standard is for the agency to have access to the information available to the manufacturer.

Further, 49 U.S.C. 30118(a) requires NHTSA to immediately notify a manufacturer if the agency determines that some of the manufacturer's products either do not comply with an applicable Federal motor vehicle safety standard or contain a safety-related defect, and provide the manufacturer with all the information on which the determination is based. Agency determinations of noncompliance are generally based upon actual testing conducted by or for the agency. However, defect determinations depend heavily upon review of consumer complaints submitted to the manufacturer, communications between manufacturers and suppliers, and the manufacturers' analyses of field problems and/or warranty claims. Without these complaints and manufacturer documents, NHTSA would have only limited access to information about vehicle or equipment problems.

To ensure that NHTSA will have access to this type of information, the agency exercised the authority granted in 49 U.S.C. 30166(e) and promulgated 49 CFR part 576, Record Retention. This regulation requires manufacturers of motor vehicles to retain one copy of all records that contain information concerning malfunctions that may be related to motor vehicle safety for a period of five years after the record is generated or acquired by the manufacturer.

Estimated Annual Burden: 40,000.

Number of Respondents: 1,000.

(4) Title: 49 CFR part 552, Petitions for Rulemaking, Defect and Noncompliance Orders.

OMB Control Number: 2127-0046.

Affected Public: Business or other-for-profit, Individuals or households.

Abstract: 49 U.S.C. 30162 specifies that any “interested person may file a petition with the Secretary of Transportation requesting the Secretary to begin a proceeding” to prescribe a motor vehicle safety standard under 49 U.S.C. chapter 301, or to decide whether to issue an order under 49 U.S.C. 30118(b). 49 U.S.C. 30111 gives the Secretary authority to prescribe motor vehicle safety standards. 49 U.S.C. 30118(b) gives the Secretary authority to issue an order to a manufacturer to notify vehicle or equipment owners, purchasers, and dealers of the defect or noncompliance and to remedy the defect or noncompliance.

Section 30162 further specifies that all petitions filed under its authority shall set forth the facts which it is claimed establish that an order is necessary and briefly describe the order the Secretary should issue.

To implement these statutory provisions, NHTSA promulgated part 552 according to the informal rulemaking provisions of the Administrative Procedure Act (5 U.S.C. 553 et seq.) This regulation allows the agency to ensure that the petitions filed under section 30162 are both properly substantiated and efficiently processed.

Estimated Annual Burden: 100 hours.

Number of Respondents: 100.

Issued on: August 13, 2001.
Herman L. Simms,
Associate Administrator for Administration.

[FR Doc. 01-20669 Filed 8-15-01; 8:45 am]

BILLING CODE 4910-59-P